DEPARTMENT OF TRANSPORTATION

Federal Aviation Administration

[Docket No. FAA-2002-12141]

AGENCY: Federal Aviation Administration (FAA) DOT.

ACTION: Notice of availability and request for comments.

SUMMARY: The FAA invites public comment on its intent to clarify how Designated Engineering Representatives (DER) are authorized to approve major repair and major alteration data intended for use on foreign-registered aircraft.

DATES: Comments must be received by May 18, 2002.

FOR FURTHER INFORMATION CONTACT: Kevin Kendall, FAA, Aircraft Certification Service, Aircraft Engineering Division, Delegation and Airworthiness Programs Branch, AIR-140, ARB Room 304, 6500 S. MacArthur Boulevard, Oklahoma City, Oklahoma 73169; telephone: (405) 954-7074; fax (405) 954-2209; e-mail kevin.kendall@faa.gov

SUPPLEMENTARY INFORMATION:

Comments Invited

You are invited to comment on the proposed order by submitting such written data, views, or arguments, as you desire, to the aforementioned specified address. You may examine all comments received on the proposed order before the closing date, in Room 815, FAA Headquarters Building (FOB-10A), 800 Independence Avenue, SW., Washington, DC 20591, weekdays except Federal holidays, between 8:30 a.m. and 4:30 p.m. All communications received on or before the closing date for comments will be considered by the Director of the Aircraft Certification Service before issuing the final order.

Background

We at the FAA acknowledge that current policy does not fully address DER data approval for major repair and major alternations for foreign-registered aircraft. Lack of specific policy has caused some Aircraft Certification Offices to allow such approvals, while others do not. In certain cases, we concur with DER data approval for major repairs and major alternations on foreign-registered aircraft. We see the need to define what those cases are, and the process for documenting these approvals.

We also understand that DERs and their customers are concerned that our policy may restrict their ability to support the needs of the aviation industry. We believe that these concerns may be relieved by allowing DERs to approve data for major repairs and major alterations applicable to certain foreign-registered aircraft. In many cases this activity requires a disclaimer be used on the FAA Form 8110-3. We also see a benefit in allowing DERs to approve data for foreign-registered aircraft in instances where the foreign authority has no capability or system for generating the approval. However, this does not mean that any authority must accept DER approved data. Additional background and discussion are provided in the draft order.

Interim Implementation

Since the current policy is silent regarding when a DER may approve major repair or major alteration data specifically intended for use on foreign-registered aircraft, implementation of this proposed policy may change a past practice allowed by the FAA. We advise Aircraft Certification Offices to continue their currently established practice until this policy becomes official.

How To Obtain Copies

The proposed order will be available on the World Wide Web at http://av-info.faa.gov/dst/dernotice.htm. You can also request it from the office listed under For Further Information Contact.

Issued in Washington, DC, on April 18, 2002.
David W. Hempe,
Manager, Aircraft Engineering Division.

[FR Doc. 02-10180 Filed 4-24-02; 8:45 am]

BILLING CODE 4910-13-M